DEPARTMENT OF DEFENSE

Office of the Secretary

Federal Advisory Committee; Advisory Panel on Department of Defense Capabilities for Support of Civil Authorities After Certain Incidents; Charter Modification

AGENCY: Department of Defense (DoD).

ACTION: Charter modification.

SUMMARY: Pursuant to section 1082 of Public Law 110-181 (122 Stat. 337), the Federal Advisory Committee Act of 1972, (5 U.S.C., Appendix), the Sunshine in the Government Act of 1976 (5 U.S.C. 552b), and 41 CFR 102-3.65, the Department of Defense established the Advisory Panel on Department of Defense Capabilities for Support of Civil Authorities After Certain Incidents (hereafter referred to as the Panel) on November 14, 2008. The Panel was established to carry out an assessment of the Department's capabilities to provide support to U.S. civil authorities in the event of a chemical, biological, radiological, nuclear, or high-yield explosive incident. While the Panel's mission remains unchanged, section 1034 of Public Law 111-84 added additional tasks to be performed by the Panel: The Department intends to modify the Panel's existing charter to reflect this change directed by Congress.

FOR FURTHER INFORMATION CONTACT: Jim Freeman, Deputy Committee Management Officer for the Department of Defense, 703-601-6128.

SUPPLEMENTARY INFORMATION:

Charter Modification

The Panel is non-discretionary federal advisory committee that was established to assess the Department's capabilities to provide support to U.S. civil authorities in the event of a chemical, biological, radiological, nuclear, or high-yield explosive incident. While the Panel's mission remains unchanged, section 1034 of Public Law 111-84 added the following tasks to be performed by the Panel:

1. Assess the adequacy of the process and methodology by which the Department of Defense establishes, maintains, and resources forces to provide support to civil authorities in the event of a chemical, biological, radiological, nuclear, or high-yield explosive incident.

2. Assess the adequacy of the resources planned and programmed by the Department to ensure the preparedness and capability of its forces to provide such support.

The Department of Defense intends to modify the Panel's existing charter to reflect this change directed by Congress.

Written Statements

Pursuant to 41 CFR 102-3.105(j) and 102-3.140, the public or interested organizations are reminded that they may submit written statements to the Panel membership about its mission and functions. Written statements may be submitted at any time or in response to the stated agenda of planned meeting of the Panel.

All written statements shall be submitted to the Panel's Designated Federal Officer. This individual will ensure that the written statements are provided to the membership for their consideration. Contact information for the Designated Federal Officer may be obtained from the GSA's FACA Database— https://www.fido.gov/facadatabase/public.asp.

The Designated Federal Officer, pursuant to 41 CFR 102-3.150, will announce planned meetings of the Panel. The Designated Federal Officer, at that time, may provide additional guidance on the submission of written statements that are in response to the stated agenda for the planned meeting in question.

Dated: January 28, 2010.
Mitchell S. Bryman,
Alternate OSD Federal Register Liaison Officer, Department of Defense.

[FR Doc. 2010-2163 Filed 2-1-10; 8:45 am]

BILLING CODE 5001-06-P